DEPARTMENT OF ENERGY

Federal Energy Regulatory Commission

[Docket Nos. CP14-517-000; CP14-518-000; PF13-14-000]

Golden Pass Products, LLC; Golden Pass Pipeline, LLC; Revised Notice of Schedule for Environmental Review of the Golden Pass Liquefied Natural Gas Export Project

This notice identifies the Federal Energy Regulatory Commission (Commission or FERC) staff's revised schedule for the completion of the final environmental impact statement (EIS) for Golden Pass Products, LLC and Golden Pass Pipeline, LLC's Golden Pass Liquefied Natural Gas Export Project. The previous notice of schedule, issued on June 26, 2015, identified March 4, 2016 as the issuance date.

Schedule for Environmental Review

Issuance of Notice of Availability of the final EIS July 29, 2016

90-day Federal Authorization Decision Deadline October 27, 2016

If a schedule change becomes necessary, additional notice will be provided so that the relevant agencies are kept informed of the Project's progress.

Additional Information

In order to receive notification of the issuance of the final EIS and to keep track of all formal issuances and submittals in specific dockets, the Commission offers a free service called eSubscription. Go to www.ferc.gov/docs-filing/esubscription.asp.

Dated: January 29, 2016.
Nathaniel J. Davis, Sr.,
Deputy Secretary.

[FR Doc. 2016-02075 Filed 2-3-16; 8:45 am]

BILLING CODE 6717-01-P